DEPARTMENT OF THE INTERIOR

National Park Service

White-Tailed Deer Management Plan, Draft Environmental Impact Statement, Valley Forge National Historical Park, Pennsylvania

AGENCY: National Park Service, Department of the Interior.

ACTION: Notice of Availability of the Draft Environmental Impact Statement for the White-tailed Deer Management Plan, Valley Forge National Historical Park.

SUMMARY: Pursuant to the National Environmental Policy Act of 1969, the National Park Service (NPS) announces the availability of the Draft Environmental Impact Statement (DEIS) for the White-tailed Deer Management Plan for Valley Forge National Historical Park, Pennsylvania. The purpose of the DEIS is to evaluate a range of alternatives for establishing a white-tailed deer management plan that supports forest regeneration and provides for long-term protection, preservation, and restoration of native vegetation and other natural and cultural resources. The DEIS evaluates four alternatives for managing white-tailed deer in the park. Alternatives for response to chronic wasting disease (CWD) have been integrated into each deer management alternative to address the elevated risk of disease in proximity to the park and because of the efficiencies and cost savings associated with incorporating CWD response into the deer management plan. The DEIS describes and analyzes the environmental impacts of three action alternatives and the no-action alternative. When approved, the plan will guide deer management actions over the next 15 years.

DATES: The NPS invites comments regarding the DEIS from the public. Comments will be accepted for a period of 60 days from the date the Environmental Protection Agency publishes the Notice of Availability in the Federal Register. In addition, the NPS intends to conduct public meetings. Please check local newspapers, the park's Web site, http://www.nps.gov/vafo, or contact the name listed below to find out when and where the meetings will be held.

ADDRESSES: Information will be available for public review and comment online through the Planning, Environment, and Public Comment (PEPC) Web site at http://parkplanning.nps.gov, or available on CD. Once on the PEPC Web site, select “Valley Forge National Historical Park” in order to access the DEIS. A limited number of hard copies will be made available at the Valley Forge National Historical Park Visitor Center located at the intersection of North Gulph Road and Route 23 and at the Lower Providence Community Library (50 Parkiane Drive, Eagleville, PA 19403-1171), Tredyffrin Public Library (582 Upper Gulph Road, Strafford-Wayne, PA 19087-2052), Phoenixville Public Library (183 Second Avenue, Phoenixville, PA 19460), and Montgomery County-Norristown Public Library (1001 Powell Street, Norristown, PA 19401). You may request a hardcopy by contacting Kristina M. Heister at the phone or address provided below.

If you wish to comment, you may submit your comments by any one of several methods. You may mail comments to: Superintendent, Valley Forge National Historical Park, 1400 North Outer Line Drive, King of Prussia, Pennsylvania 19406. You may also comment via the Internet at http://parkplanning.nps.gov. If you do not receive confirmation from that system that we have received your Internet message, contact us directly at 610-783-1008. During the public meetings, the NPS will accept written comments as well as provide for verbal comments to be recorded.

Comments will be analyzed and responded to within the Final Environmental Impact Statement for the White-tailed Deer Management Plan. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Kristina M. Heister, Natural Resource Manager, Valley Forge National Historical Park, 1400 North Outer Line Drive, King of Prussia, PA 19406, (610) 783-1008.

SUPPLEMENTARY INFORMATION: Development of the Environmental Impact Statement for the White-tailed Deer Management Plan for Valley Forge National Historical Park was initiated in 2006, pursuant to the 2006 House Appropriations Report (HR 109-465): “The public has been patient as the NPS has worked through its process in regard to management of the over-abundance of white-tailed deer at the park. Within existing funds, NPS is directed to begin the environmental impact statement for deer management. The Committee expects that the plan will be funded fully so that it can be completed in fiscal year 2008. The Committee further expects that implementation of the selected action will begin immediately upon signing of the Record of Decision.”

The DEIS evaluates four alternatives for managing white-tailed deer in the park. The document describes and analyzes the environmental impacts of three action alternatives and the no-action alternative.

Alternatives: Alternative A (no action) would continue the existing deer management activities of monitoring deer population size and vegetation, small scale fencing of selected vegetation, removal of deer killed on roadways, public education, coordination with the Pennsylvania Game Commission, and continuation of limited CWD surveillance; no new deer management actions would be implemented.

Alternative B would combine several non-lethal actions, including large-scale rotational fencing of 10% to 15% of the park's forested area and reproductive control of does to gradually reduce deer population in the park. Chronic wasting disease surveillance would include live testing (via tonsillar biopsy) and removal of CWD-positive individuals.

Under Alternative C, qualified federal employees or contractors would directly reduce the deer population in the park through sharpshooting and through capture and euthanasia, where appropriate. CWD response would include rapid reduction of the deer population to the target deer density and the potential for a one-time reduction action to not less than 10 deer per square mile through sharpshooting and through capture and euthanasia. These actions would be taken for the purposes of assessing disease presence, prevalence, and distribution. These actions may also minimize the likelihood of CWD becoming established, minimize the likelihood of amplification and spread if the disease is introduced, and promote elimination of CWD, if possible.

Alternative D (NPS Preferred Alternative) would combine actions of Alternative C to directly reduce the deer population with reproductive control of does as under Alternative B to maintain population levels. CWD response actions would be the same as described for Alternative C.

Dated: September 29, 2008.
Dennis R. Reidenbach,
Regional Director, Northeast Region, National Park Service.

[FR Doc. E8-28439 Filed 11-28-08; 8:45 am]

BILLING CODE 4310-70-M